DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Wednesday, October 22, 2014, from 8:30 a.m. to 2:45 p.m.

ADDRESSES: 901 N. Stuart Street, Suite 200, Arlington, VA 22203.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the October 22, 2014 meeting is to review new start research and development projects requesting Strategic Environmental Research and Development Program funds as required by the SERDP Statute, U.S. Code—Title 10, Subtitle A, Part IV, Chapter 172, § 2904. The full agenda follows:

8:30 a.m. Convene | Dr. Joseph Hughes, Chair.
8:40 a.m. Resource Conservation and Climate Change Overview | Dr. John Hall, Resource Conservation and Climate Change, Program Manager.
8:50 a.m. 15 RC01-035 (RC-2510): Global Change, Vulnerability and Resilience: Management Options for an Uncertain Future (FY15 New Start) | Dr. Craig Allen, University of Nebraska-Lincoln, Lincoln NE.
9:35 a.m. 15 RC01-012 (RC-2508): Conserving Threatened Plants in a Non-stationary World: A Predictive Framework for Assessing Risks and Guiding Management (FY15 New Start) | Dr. Dov Sax, Brown University, Providence, RI.
10:20 a.m. Break |
10:35 a.m. 15 RC01-157 (RC-2509): Empirical Dynamics: A New Paradigm for Understanding and Managing Species and Ecosystems in a Non-Stationary Nonlinear World (FY15 New Start) | Dr. George Sugihara, Scripps Institution of Oceanography, La Jolla, CA.
11:20 a.m. 15 RC01-087 (RC-2511): Flow-Population Models for Tracking Non-Stationary Changes in Riparian and Aquatic Ecosystems (FY15 New Start) | Dr. David Lytle, Oregon State University, Corvallis, OR.
12:05 p.m. Lunch |
1:05 p.m. Resource Conservation and Climate Change Overview | Dr. John Hall, Resource Conservation and Climate Change, Program Manager.
1:15 p.m. 15 RC01-096 (RC-2512) : Evaluating the Use of Spatially Explicit Population Models to Predict Conservation Reliant Species in Nonanalogue Future Environments on DoD Lands (FY15 New Start) | Dr. Brian Hudgens, Institute for Wildlife Studies, Arcata, CA.
2:00 p.m. 14 RC01-031 (RC-2447): Control and Mitigation of Aquatic Invasive Species in Pacific Island Streams (FY14 New Start) | Dr. Michael Blum, Tulane University, New Orleans, LA.
2:45 p.m. Public Discussion/Adjourn |

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: September 29, 2014.
Aaron Siegel,
Alternate OSD Federal Register Liaison Officer, Department of Defense.

[FR Doc. 2014-23474 Filed 10-1-14; 8:45 am]

BILLING CODE 5001-06-P